DEPARTMENT OF DEFENSE

Department of the Army, Corps of Engineers

Notice of Availability of a Final General Conformity Determination and Record of Decision for the San Pedro Waterfront Project, Port of Los Angeles, Los Angeles County, CA

AGENCY: Department of the Army—U.S. Army Corps of Engineers, DoD.

ACTION: Notice of availability.

SUMMARY: In September 2009, the Los Angeles District of the U.S. Army Corps of Engineers (Corps) and the Los Angeles Harbor Department published a joint final Environmental Impact Statement/Environmental Impact Report (EIS/EIR), including the Corps' draft general conformity determination (Section 3.2 and Appendix D.7), for the Federal action associated with the San Pedro Waterfront Project (Project) in the Port of Los Angeles, Los Angeles County, California. Comments were received on the final EIS/EIR and included draft general conformity determination until October 29, 2009. A general conformity determination was necessary because Project construction would require Federal action (i.e., issuance of a Corps permit for work and structures in and over navigable waters, discharges of fill into waters of the U.S., and transport and disposal of dredged material in ocean waters) and not all the Federal action's direct and indirect emissions would be below specified de minimis thresholds (40 CFR 93.153(b)). On May 9, 2011 and May 11, 2011, the Corps made a final general conformity determination and completed its environmental review and executed the Record of Decision (ROD), respectively, for the Federal action associated with the Project. The Corps considered and responded to all comments received in making the final general conformity determination and executing the ROD.

The public can request copies of the final general conformity determination document or the ROD from the Corps at the address listed below, or can view or download the final general conformity determination document from the Corps' Web site (http://www.spl.usace.army.mil/regulatory/POLA.htm, scroll down to the link under San Pedro Waterfront [formerly Bridge to Breakwater]) or the Port of Los Angeles' Web site (http://www.portoflosangeles.org/environment/public_notices.asp, scroll down to link under San Pedro Waterfront Project). In addition, copies of the final general conformity document are available for review during the next 30 days at the following libraries: L.A. Public Library, Central Branch, 630 West 5th Street, Los Angeles California; L.A. Public Library, San Pedro Branch, 931 South Gaffey Street, San Pedro, California; and L.A. Public Library, Wilmington Branch, 1300 North Avalon, Wilmington, California.

FOR FURTHER INFORMATION CONTACT: Questions or comments concerning the final general conformity determination or the ROD should be directed to Dr. Spencer D. MacNeil, Chief of the Transportation and Special Projects Branch, Regulatory Division, U.S. Army Corps of Engineers, 2151 Alessandro Drive, Suite 110, Ventura, California 93001, (805) 585-2152.

SUPPLEMENTARY INFORMATION: None

Dated: June 3, 2011.
David J. Castanon,
Chief, Regulatory Division, Los Angeles District.

[FR Doc. 2011-14587 Filed 6-10-11; 8:45 am]

BILLING CODE 3710-58-P